ENVIRONMENTAL PROTECTION AGENCY

[FRL-7062-6]

EPA Fellowships for Graduate and Undergraduate Environmental Study: Request for Pre-Applications

AGENCY: Environmental Protection Agency (EPA).

ACTION: Notice of request for pre-applications.

SUMMARY: This notice provides information on the availability of fiscal year 2002 Fellowships for Graduate Environmental Study, Minority Academic Institutions (MAI) Fellowships for Graduate Environmental Study, and Minority Academic Institutions (MAI) Undergraduate Student Fellowships, in which the areas of interest in academic disciplines relating to environmental research, description of fellowship awards, eligibility and submission requirements, evaluation criteria, and implementation schedules are set forth. Fellowships will be competitively awarded following peer review.

DATES: The deadline for pre-applications is 4 PM, EST, on November 19, 2001.

FOR FURTHER INFORMATION CONTACT: U.S. Environmental Protection Agency, National Center for Environmental Research (8703R), 1200 Pennsylvania Avenue, NW, Washington DC 20460, telephone (800) 490-9194. The complete announcements can be accessed on the Internet from the EPA homepage: http://www.epa.gov/ncerqa under “announcements.”

SUPPLEMENTARY INFORMATION: The U.S. Environmental Protection Agency, as part of its Science to Achieve Results (STAR) program, is offering, in environmentally related fields of study: (1) Graduate Fellowships for master's and doctoral level students, (2) MAI Graduate Fellowships for master's and doctoral level students, and (3) MAI Undergraduate Fellowships for bachelor level students. The purpose of the fellowship programs is to encourage promising students to obtain undergraduate and graduate degrees and pursue careers in environmentally related fields. Subject to availability of funding, EPA plans to award approximately 100 Fellowships for Graduate Environmental Study, 25 MAI Fellowships for Graduate Environmental Study, and 20 MAI Undergraduate Student Fellowships. The announcements for the fellowship programs provide relevant background information, describe the fellowship awards, and outline the pre-application and review process. Top ranked applicants following the peer review will be required to submit a brief formal application.

Contact person for the Fellowships for Graduate Environmental Study and the MAI Fellowships for Graduate Environmental Study is Virginia Broadway (broadway.virginia@epa.gov), telephone 202-564-6923. Contact person for the MAI Undergraduate Student Fellowships is Georgette Boddie (boddie.georgette@epa.gov), telephone 202-564-6926.

Ann Akland,
Acting Assistant Administrator for Research and Development.

[FR Doc. 01-23751 Filed 9-21-01; 8:45 am]

BILLING CODE 6560-50-P